DEPARTMENT OF COMMERCE

International Trade Administration

[A-122-822, A-122-823]

Certain Corrosion-Resistant Carbon Steel Flat Products and Certain Cut-to-Length Carbon Steel Plate From Canada: Amended Final Results of Antidumping Duty Administrative Reviews and Determination Not To Revoke in Part

AGENCY: Import Administration, International Trade Administration, U.S. Department of Commerce.

ACTION: Notice of amended final results of the antidumping duty administrative review of certain corrosion-resistant carbon steel flat products and certain cut-to-length carbon steel plate from Canada and determination not to revoke in part.

SUMMARY: We are amending our final results of the 1997-98 administrative reviews of the antidumping duty orders on Certain Corrosion Resistant Carbon Steel Products and Certain Cut-to-Length Carbon Steel Plate From Canada and Determination Not to Revoke in Part, published on February 24, 2000 (65 FR 9243), to reflect the correction of ministerial errors made in the model match and margin calculation in the final results for corrosion resistant carbon steel flat products. We are publishing this amendment to the final results in accordance with 19 CFR part 351 (1998).

EFFECTIVE DATE: March 30, 2000.

FOR FURTHER INFORMATION CONTACT: Elfi Blum (Stelco, Inc. (Stelco)) and Michael Strollo (Dofasco,Inc. and Sorevco, Inc., collectively Dofasco), Import Administration, International Trade Administration, U.S. Department of Commerce, 14th Street and Constitution Avenue, NW, Washington DC 20230; telephone (202) 482-0197 and (202) 482-5255, respectively.

Applicable Statute

Unless otherwise stated, all citations to the statute are references to the provisions effective January 1, 1995, the effective date of the amendments made to the Tariff Act of 1930 (the Act) by the Uruguay Round Agreements Act (URAA). In addition, unless otherwise indicated, all citations to the Department's regulations are to 19 CFR part 351 (1998).

SUPPLEMENTARY INFORMATION:

Background

On August 19, 1999, the Department of Commerce (the Department) published in the Federal Register (64 FR 45228) the preliminary results of its 1997-98 administrative reviews of the antidumping duty orders on certain corrosion-resistant carbon steel flat products and certain cut-to-length carbon steel plate from Canada. We published the final results of review on February 24, 2000 (65 FR 9243).

On February 28, 2000 and on March 6, 2000, we received timely allegations from petitioners (Bethlehem Steel Corporation, U.S. Steel Group (a unit of USX Corporation), Inland Steel Industries, Inc., AK Steel Corporation, LTV Steel Co., Inc. and National) that the Department made ministerial errors in the final results of reviews regarding Stelco and Dofasco, respectively. On March 6, 2000 we also received a timely allegation from Dofasco that the Department made clerical errors in the final results. On March 8, 2000 we received rebuttal comments from Dofasco.

Scope of Review

The products covered by these administrative reviews constitute two separate “classes or kinds” of merchandise: (1) Certain corrosion-resistant carbon steel flat products, and (2) certain cut-to-length carbon steel plate.

The first class or kind, certain corrosion-resistant steel, includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (HTS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090. Included in this review are corrosion-resistant flat-rolled products of non-rectangular cross-section where such cross-section is achieved subsequent to the rolling process (i.e., products which have been “worked after rolling”)—for example, products which have been beveled or rounded at the edges. Excluded from this review are flat-rolled steel products either plated or coated with tin, lead, chromium, chromium oxides, both tin and lead (“terne plate”), or both chromium and chromium oxides (“tin-free steel”), whether or not painted, varnished or coated with plastics or other nonmetallic substances in addition to the metallic coating. Also excluded from this review are clad products in straight lengths of 0.1875 inch or more in composite thickness and of a width which exceeds 150 millimeters and measures at least twice the thickness. Also excluded from this review are certain clad stainless flat-rolled products, which are three-layered corrosion-resistant carbon steel flat-rolled products less than 4.75 millimeters in composite thickness that consist of a carbon steel flat-rolled product clad on both sides with stainless steel in a 20%-60%-20% ratio.

The second class or kind, certain cut-to-length plate, includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the HTS under item numbers 7208.40.3030, 7208.40.3060, and 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Included in this review are flat-rolled products of non-rectangular cross-section where such cross-section is achieved subsequent to the rolling process (i.e., products which have been “worked after rolling”)—for example, products which have been beveled or rounded at the edges. Excluded from this review is grade X-70 plate. Also excluded is cut-to-length carbon steel plate meeting the following criteria: (1) 100% dry steel plates, virgin steel, no scrap content (free of Cobalt-60 and other radioactive nuclides); (2) .290 inches maximum thickness, plus 0.0, minus .030 inches; (3) 48.00 inch wide, plus .05, minus 0.0 inches; (4) 10 foot lengths, plus 0.5, minus 0.0 inches; (5) flatness, plus/minus 0.5 inch over 10 feet; (6) AISI 1006; (7) tension leveled; (8) pickled and oiled; and (9) carbon content, 0.3 to 0.8 (maximum).

With respect to both classes or kinds, the HTS item numbers are provided for convenience and Customs purposes. The written description remains dispositive of the scope of these reviews.

Amended Final Results

Dofasco

On March 6, 2000, petitioners and Dofasco alleged that the Department made ministerial errors in calculating the final antidumping margin with respect to Dofasco, one of the respondents in the review of corrosion-resistant carbon steel flat products from Canada.

Comment 1: Exclusion of sales under the arm's length test.

Petitioners argue that the Department did not exclude sales that failed the arm's length test from our model match program. Dofasco agrees with petitioners.

Department's Position: We agree with both petitioners and Dofasco that sales that failed the arm's length test were incorrectly included in our model match program and should have been excluded. Therefore, we have made the appropriate changes to the model match program to exclude these sales.

Comment 2: Credit expenses.

Petitioners allege that the Department erroneously calculated Dofasco's credit expenses. Dofasco agrees with petitioners in this regard. For a further discussion of this issue, please refer to the Memorandum to the File from Mike Strollo through Maureen Flannery: Analysis of Dofasco, Inc. and Sorevco, Inc. (Dofasco) for the amended final results of the fifth administrative review of corrosion-resistant carbon steel flat products from Canada, dated March 30, 2000.

Department's Position: We agree with both petitioners and Dofasco that we erroneously calculated credit expense and have made the relevant corrections to the programming language in the margin calculation program.

Comment 3: The Department miscalculated actual freight expenses when conducting the arm's length test.

Dofasco alleges that the Department tested for actual freight (ACTFRTH) to identify Dofasco's prepaid and charge transactions where ACTFRTH was not reported. However, Dofasco argued that ACTFRTH is never missing, but rather is reported as zero for such transactions. Thus, as a result, Dofasco alleges that movement expense (MOVEH) was not calculated correctly for these transactions. Petitioners did not comment on this issue.

Department's Position: We agree with Dofasco and have made the appropriate corrections to the programming language in the arm's length program.

Comment 4: The Department's arm's length test.

Dofasco argues that the Department improperly conducted the arm's length test by comparing the prices of the affiliated transactions to the prices of the unaffiliated transactions to the same customer instead of to the weighted-average net price for each product sold to all unaffiliated customers. Dofasco contends that this was only possible since all of Dofasco's customers have since become unaffiliated during the extended review period. Petitioners did not comment on this issue.

Department's Position: We agree with Dofasco and have made the appropriate corrections to the programming language in the arm's length program.

Comment 5: The Department is not using the same home market sales dataset as submitted by Dofasco on February 3, 1999.

Dofasco argues that, although the Department is now using a file with the correct file name, and with the correct number of records, the original data submitted by Dofasco and Sorevco was processed prior to its use in these programs without any explanation by the Department. Dofasco concludes that, as a result, the model match program was not run properly. As evidence of Dofasco's claim, it points to the following: (1) The log of the model match program was sorted by SALEDTH instead of first by CONNUMH then by SALEDTH as Dofasco claims its data was sorted; (2) the number of home market models used to create the product concordance is 12,024 when Dofasco runs the data it submitted (i.e., the number of CONNUMH-MONTHH combinations in the home market sales data after the cost test has been performed as well as removing other unwanted sales) instead of 12,135 home market models that appeared in the log of the model match program; (3) there were differences in the number of pointers created by the model match program using Dofasco's February 3, 1999 data; and (4) the product concordance from the output of the model match program demonstrates that the data used by the Department for the final results was different than that submitted by Dofasco in its February 3, 1999 supplemental response. Dofasco contends that, as further evidence that the Department has sorted the data it submitted on February 3, 1999 prior to its use in these programs, the margin calculation program generates 14,205 home market normal values whereas Dofasco claims its submission only generates 14,105 home market normal values. Petitioners did not comment on this issue.

Department's Position: We disagree with Dofasco. For the Final Results, the Department used the datasets Dofasco submitted in its February 3, 1999 submission. The fact that the data was sorted differently by the Department prior to its use in the program does not have an impact on the manner in which the model match program runs. In addition, Dofasco has admitted that the data it submitted on February 3, 1999 is, in fact, the same home market data file which was used by the Department for the Final Results of review. Finally, we can not and do not know the exact contents of the model match program that Dofasco is running. This may account for the differences between the number of home market models, pointers, product concordance, and home market normal values in their program and ours. Therefore, as a result, we have not made any changes to the program or the data used by the Department to run the model match program.

Comment 6: The Department incorrectly calculated weighted-average production costs and performed the cost test by PRODUCTH.

Dofasco argues that the Department correctly recombined Dofasco's and Sorevco's production costs by PRODUCTH; however, the Department omitted certain steps in its recalculation of the weighted-average production costs. Dofasco contends that the Department failed to eliminate duplicate records from Dofasco's and Sorevco's production costs, and that the Department should calculate a weighted average by production quantity. In addition, the Department erroneously conducted the cost test by PRODUCTH rather than CONNUMH. In each instance, Dofasco provided programming language to solve the identified problems. Petitioners did not comment on the issue.

Department's Position: We agree with Dofasco, in part. We agree that production costs were not weight-averaged, and we agree that we performed the cost test by PRODUCTH rather than CONNUMH; however, we disagree that the programming language that Dofasco submitted to rectify the alleged problems is appropriate. The language that Dofasco proposes fails to solve the problems identified. Dofasco states that we correctly recombined Dofasco's and Sorevco's costs by PRODUCT. Then, Dofasco claims that we should delete CONNUM from the model matching program at lines 191, 308 and 322. Following these and other changes, Dofasco claims that we should perform the cost test by CONNUMH rather than PRODUCTH. However, Dofasco has already claimed that we should eliminate references to CONNUM in earlier lines of code. These changes make it impossible to run the cost test by CONNUMH, as is the Department's standard practice. Therefore, in order to comply with the Department's standard practice of running the cost test by CONNUMH, we have determined that additional lines of code are needed in the model match program. See Memorandum to The File from Mike Strollo through Maureen Flannery: Analysis of Dofasco, Inc. and Sorevco, Inc. (Dofasco) for the amended final results of the fifth administrative review of corrosion-resistant carbon steel flat products from Canada, dated March 24, 2000. Therefore, for these final results of review, we have recalculated the weighted-average production costs for Dofasco and Sorevco and subsequently performed the cost test by CONNUM.

Comment 7: The Department failed to convert the recalculated CREDITU to U.S. dollars when the transaction was reported in Canadian dollars.

Dofasco argues that the Department failed to convert the recalculated CREDITU to U.S. dollars when the transaction was reported in Canadian dollars. Dofasco proposed programming language to rectify this problem. Petitioners did not comment on this issue.

Department's Position: We agree with Dofasco and have made the appropriate corrections to the programming language in the margin calculation program.

Comment 8: A more fundamental error exists in the Department's recalculation of credit expenses.

Dofasco alleges that the Department made a more fundamental error in the calculation of its U.S. credit expenses. Dofasco contends that the Department must correct the methodology it used to recalculate these expenses.

Petitioners, however, argue that the comment submitted by Dofasco is unrelated to any ministerial error comments contained in petitioners' March 6, 2000 submission, and as such, does not constitute a reply pursuant to section 351.224(c)(3) of the Department's regulations. Instead, petitioners contend that this is simply an untimely submission of a new ministerial error comment pursuant to section 351.224(c)(1) of the Department's regulations and should not be considered by the Department.

Department's Position: We agree with petitioners that Dofasco's claim is not a rebuttal comment, but instead, an untimely submission of a new ministerial error comment. Therefore, in accordance with section 351.224(d) of the Department's regulations, we have not considered this allegation for these amended final results.

As a result of the corrections made to the arm's length, model match, and margin calculation programs, the margin for corrosion-resistant carbon steel flat products from Canada for Dofasco has changed from 0.16 percent to 0.20 percent.

Stelco

On February 28, 2000, petitioners alleged that the Department made ministerial errors in calculating the final antidumping duty margin with respect to Stelco, one of the respondents in the review of corrosion-resistant carbon steel flat products from Canada. Petitioners alleged that the Department made certain errors in its computer programming language for the model match and margin calculation programs, when implementing its adjustment to G&A for Baycoat G&A expenses in the cost of production (COP) and constructed value (CV) calculations. Petitioners argue that the Department should have renamed the G&A variable when making the Baycoat adjustment, to avoid distortion of the value of Stelco's G&A.

We agree with petitioners that we incorrectly calculated the revised G&A expenses for Stelco by not renaming the G&A variable in our COP and CV calculations after adjusting for Baycoat's G&A expenses. We have made the pertinent corrections in the programming language of our model match and margin calculation programs, and renamed the respective variables to RGNA and RGNACV.

As a result of these corrections, the margin for corrosion-resistant carbon steel flat products from Canada for Stelco has changed from 0.68 percent to 4.24 percent.

Amended Final Results of Review

Upon review of the submitted allegations, the Department has determined that the following margins exist for the period August 1, 1997, through July 31, 1998:

Manufacturer/exporter | Margin (percent)
Corrosion Resistant Steel:
CCC | 1.01
Dofasco | 0.20
National | 5.65
Stelco | 4.24
Cut-to-Length Plate:
MRM | 0.00
Stelco | 0.00

The Department will determine, and the U.S. Customs Service shall assess, antidumping duties on all appropriate entries. For assessment purposes, we have calculated importer-specific ad valorem duty assessment rates for the merchandise based on the ratio of the total amount of antidumping duties calculated for the examined sales to the total quantity of sales examined. The Department will issue appraisement instructions directly to the Customs Service.

Furthermore, the following deposit requirements will be effective upon publication of these amended final results for all shipments of the subject merchandise entered, or withdrawn from warehouse, for consumption on or after the publication date as provided by section 751(a)(1) of the Act: (1) The cash deposit rate for each reviewed company will be the rates stated above (except that no deposit will be required for firms with zero or de minimis margins, i.e., margins less than 0.5 percent); (2) for exporters not covered in this review, but covered in the less-than-fair-value (LTFV) investigation or a previous review, the cash deposit rate will continue to be the company-specific rate published for the most recent period; (3) if the exporter is not a firm covered in this review, a previous review, or the original LTFV investigation, but the manufacturer is, the cash deposit rate will be the rate established for the most recent period for the manufacturer of the merchandise; and (4) the cash deposit rate for all other manufacturers or exporters will continue to be the “all others” rates established in the LTFV investigations, which were 18.71 percent for corrosion-resistant steel products and 61.88 percent for plate (see Amended Final Determination of Sales at Less than Fair Value and Anti-Dumping Orders: Certain Corrosion Resistant Carbon Steel Flat Products and Certain Cut-to-Length Carbon Steel Plate from Canada, 60 FR 49582 (September 26, 1995)). These deposit requirements, when imposed, shall remain in effect until publication of the final results of the next administrative reviews.

These administrative reviews and this notice are in accordance with section 751(a)(1) of the Act (19 U.S.C. 1675(a)(1) and 19 CFR 351.213 and 19 CFR 351.221(b)(5).

Dated: March 30, 2000.
Robert S. LaRussa,
Assistant Secretary for Import Administration.

[FR Doc. 00-8699 Filed 4-6-00; 8:45 am]

BILLING CODE 3510-DS-P